DEPARTMENT OF ENERGY

Federal Energy Regulatory Commission

Combined Notice of Filings

Take notice that the Commission has received the following Natural Gas Pipeline Rate and Refund Report filings:

Filings Instituting Proceedings

Docket Numbers: CP13-333-000.

Applicants: Transcontinental Gas Pipe Line Company, LLC.

Description: Application of Transcontinental Gas Pipe Line Company, LLC to partially abandon service to Piedmont Natural Gas under Rate Schedule FT.

Filed Date: 4/30/13.

Accession Number: 20130430-5211.

Comments Due: 5 p.m. ET 5/15/13.

Docket Numbers: RP13-870-000.

Applicants: TC Offshore LLC.

Description: TC Offshore LLC Annual Operational Purchases and Sales of Gas Report.

Filed Date: 4/30/13.

Accession Number: 20130430-5540.

Comments Due: 5 p.m. ET 5/13/13.

Docket Numbers: RP13-884-000.

Applicants: Northern Natural Gas Company.

Description: Petition for a Limited Waiver of Northern's FERC Gas Tariff to allow resolution of an imbalance with the imbalance to storage mechanism for Minnesota Energy Resources Corporation.

Filed Date: 5/2/13.

Accession Number: 20130502-5074.

Comments Due: 5 p.m. ET 5/14/13.

Docket Numbers: RP13-886-000.

Applicants: Southern Natural Gas Company, L.L.C.

Description: Rate Case Settlement to be effective 9/1/2013.

Filed Date: 5/2/13.

Accession Number: 20130502-5136.

Comments Due: 5 p.m. ET 5/14/13.

Docket Numbers: RP13-887-000.

Applicants: Natural Gas Pipeline Company of America.

Description: Expired/Expiring Agreements to be effective 6/3/2013.

Filed Date: 5/3/13.

Accession Number: 20130503-5088.

Comments Due: 5 p.m. ET 5/15/13.

Docket Numbers: RP13-888-000.

Applicants: Alliance Pipeline L.P.

Description: May 7-16 2013 Auction to be effective 5/7/2013.

Filed Date: 5/3/13.

Accession Number: 20130503-5097.

Comments Due: 5 p.m. ET 5/15/13.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP12-955-005.

Applicants: CenterPoint Energy—Mississippi River T.

Description: MRT Correction to Motion Rate Filing to be effective 3/1/2013.

Filed Date: 5/3/13.

Accession Number: 20130503-5038.

Comments Due: 5 p.m. ET 5/15/13.

Docket Numbers: RP13-861-001.

Applicants: Trailblazer Pipeline Company LLC.

Description: Trailblazer Pipeline Company LLC submits tariff filing per 154.205(b): FTB Compliance to RP13-861 and RP13-240 to be effective 5/1/2013.

Filed Date: 5/3/13.

Accession Number: 20130503-5146.

Comments Due: 5 p.m. ET 5/15/13.

Any person desiring to protest in any the above proceedings must file in accordance with Rule 211 of the Commission's Regulations (18 CFR 385.211) on or before 5:00 p.m. Eastern time on the specified comment date. The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated May 06, 2013.
Nathaniel J. Davis, Sr.,
Deputy Secretary.

[FR Doc. 2013-11547 Filed 5-14-13; 8:45 am]

BILLING CODE 6717-01-P